DEPARTMENT OF ENERGY

[OE Docket No. EA-403-A]

Application to Export Electric Energy; Frontera Marketing, LLC

AGENCY: Office of Electricity, Department of Energy.

ACTION: Notice of application.

SUMMARY: Frontera Marketing, LLC (Applicant or Frontera) has applied to renew its authorization to transmit electric energy from the United States to Mexico pursuant to the Federal Power Act.

DATES: Comments, protests, or motions to intervene must be submitted on or before February 5, 2020.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 7172(f)). Such exports require authorization under section 202(e) of the Federal Power Act (16 U.S.C. 824a(e)).

On March 24, 2015, DOE issued Order No. EA-403, which authorized Frontera Marketing, LLC. to transmit electric energy from the United States to Mexico as a power marketer for a five-year term using the existing facilities permitted in PP-206 and other international transmission facilities appropriate for open access. That authorization expires on March 24, 2020. On December 16, 2019, Frontera filed an application (App.) with DOE for renewal of the export authorization contained in Order No. EA-403 for an additional five-year term.

Frontera states in its application that it “does not own, operate or control any electric generation or transmission facilities.” App. at 3. Frontera “has entered into an exclusive sales agreement with its affiliate, Frontera Generation [Limited Partnership (Frontera Generation)], [to purchase] 100% of the portion of the energy produced at Frontera Station that is intended to be sold into Mexico.” Id. In those instances where Applicant purchases power from entities other than Frontera Generation, to be exported over facilities other than the facilities permitted by Presidential Permit PP-206, the power will be purchased from other entities voluntarily, and will be surplus to the needs of the selling entity.

Procedural Matters: Any person desiring to be heard in this proceeding should file a comment or protest to the application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Two (2) copies of such comments, protests, or motions to intervene should be sent to the address provided above on or before the date listed above.

Comments and other filings concerning Frontera's application to export electric energy to Mexico should be clearly marked with OE Docket No. EA-403-A. Additional copies are to be provided directly to Elizabeth Quirk-Hendry, Frontera Marketing, LLC, 500 Alexander Park Drive, Suite 300, Princeton, NJ 08540, and to Brooksany Barrowes and Nicholas Gladd, Kirkland & Ellis LLP, 1301 Pennsylvania Avenue NW, Washington, DC 20004.

A final decision will be made on this application after the environmental impacts have been evaluated pursuant to DOE's National Environmental Policy Act Implementing Procedures (10 CFR part 1021) and after DOE determines that the proposed action will not have an adverse impact on the sufficiency of supply or reliability of the U.S. electric power supply system.

Copies of this application will be made available, upon request, for public inspection and copying at the address provided above, by accessing the program website at http://energy.gov/node/11845, or by emailing Matthew Aronoff at matthew.aronoff@hq.doe.gov.

Signed in Washington, DC, on December 30, 2019.
Christopher Lawrence,
Management and Program Analyst, Transmission Permitting and Technical Assistance, Office of Electricity.

[FR Doc. 2019-28487 Filed 1-3-20; 8:45 am]

BILLING CODE 6450-01-P